DEPARTMENT OF COMMERCE

National Oceanic and Atmospheric Administration

Deep Seabed Mining: Proposed Extension and Revision of Exploration License

AGENCY: National Oceanic and Atmospheric Administration, U.S. Department of Commerce.

ACTION: Notice of Receipt of Application to Extend Deep Seabed Mining Exploration License USA-1 and Revise Exploration Plan.

SUMMARY: On September 20, 2001, Ocean Minerals Company (OMCO) submitted to the National Oceanic and Atmospheric Administration (NOAA) an application for a five-year extension of Deep Seabed Mining Exploration License USA-1, pursuant to sections 105(c)(2) and 107(a) of the Deep Seabed Hard Mineral Resources (DSHMRA, 30 U.S.C. 1401 et seq.) and 15 CFR 970.515. OMCO has also proposed related exploration plan revisions.

NOAA has determined that this proposal constitutes an application for a major but not a significant revision to the exploration plan and to the terms, conditions, and restrictions (TCRs) of the license under 15 CFR 970.513, and is commencing public review procedures as prescribed in 15 CFR 970.514(b). Pursuant to the DSHMRA and 15 CFR part 970, on August 29, 1984, NOAA issued a license to OMCO to engage in deep seabed mining exploration in the Clarion-Clipperton Fracture Zone area of the Northeastern Equatorial Pacific Ocean. Since that time, the licensee, subject to the TCRs of the license and the regulatory requirements, has diligently pursued the activities approved in the exploration plan of the license, directed toward application for a commercial permit.

In 1991, NOAA approved a revision to the exploration plan for USA-I and extended the original license for an additional five years. This exploration plan is a two-phased plan. During Phase I, OMCO's activities are designed to monitor legal, technical and political developments pertaining to deep seabed mining; analyze environmental and nodule resource data; and, reevaluate the potential for commercial mining. During Phase II OMCO's activities are directed toward survey operations, upgrading the exploration ship and equipment, and delineation of the ore body.

OMCO is applying for a five-year extension of the license based on significantly changed market conditions, pursuant to 15 CFR 970.515. Section 107(a) of the DSHMRA provides that the Administration shall extend a license, on terms consistent with the Act and NOAA's regulations, if the licensee has complied with the license and associated exploration plan. Section 105(c)(2) of the DSHMRA authorizes NOAA to approve a license revision upon a finding that the revision will comply with the requirements of the Act and implementing regulations. A revision to the exploration plan is being requested to reflect accomplishment of objectives in Phase I of OMCO's current plan. For example, the substantial amounts of data received as a result of the exchange of exploration data between consortia during settlement of overlapping sites is sufficient to determine if and at which locations attractive mine sites occur in USA-I. This allows survey operations and upgrading of the mine ship and equipment to be delayed until Phase II when detailed ore body delineation occurs in conjunctions with the initiation of scale-up pilot plant operations.

This revision requests an extension of the term of the license until 2005 and proposes to extend Phase I for five years and to delay the initiation of the survey operations, ore body delineation and upgrade ship and equipment activities of Phase II. During the five-year extension. OMCO will monitor domestic and international activities in the scientific, engineering, and financial fields that are important to the future development of ocean mining. This will help to maintain industry viability and provide information necessary to assess the timeliness for inauguration of Phase II. OMCO will also continue to monitor new environmental studies and data collection.

Subject to 15 CFR 971.802, interested persons will be permitted to examine the application for extension at the below listed address.

DATES: Individuals or organizations wishing to submit comments on the application should do so by February 4, 2002.

ADDRESSES: Comments should be made to John King, Acting Chief, Coastal Programs Division (N/ORM3), Office of Ocean and Coastal Resource Management, NOS, NOAA, 1305 East-West Highway, Silver Spring, Maryland, tel. 301-713-3155 extension 195, e-mail john.king@noaa.gov.

FOR FURTHER INFORMATION CONTACT: Joseph Flanagan, Coastal Programs Division (NORM/3), Office of Ocean and Coastal Resource Management, NOS, NOAA, 1305 East-West Highway, Silver Spring, Maryland 20910, tel. (301) 713-3155, x201, e-mail joseph.flanagan@noaa.gov.

Federal Domestic Assistance Catalog 11.419 Coastal Zone Management Program Administration.
Dated: November 28, 2001.
Jamison S. Hawkins,
Deputy Assistant Administrator for Ocean Services and Coastal Zone Management, National Oceanic and Atmospheric Administration, Department of Commerce.

[FR Doc. 01-30150 Filed 12-4-01; 8:45 am]

BILLING CODE 3510-08-M